DEPARTMENT OF THE INTERIOR

Bureau of Reclamation

Glen Canyon Dam Adaptive Management Work Group (AMWG), Notice of Meeting

AGENCY: Bureau of Reclamation, Interior.

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (AMWG), a technical work group (TWG), a monitoring and research center, and independent review panels. The TWG is a subcommittee of the AMWG and provides technical advice and information for the AMWG to act upon.

Date and Location: The AMWG will conduct the following public meeting:

Phoenix, Arizona—May 29, 2003. The meeting will begin at 9:30 a.m. and conclude at 5 p.m. The meeting will be held at the Bureau of Indian Affairs—Western Regional Office, 2 Arizona Center, 400 N. 5th Street, Conference Rooms A and B (12th Floor), Phoenix, Arizona.

Agenda: The purpose of the meeting will be to address the critical status of the humpback chub in the Colorado River. At the AMWG Meeting held on January 28-29, 2003, the following motion was passed: “AMWG meet in special session on or about April 1, 2003, to consider actions to implement a comprehensive research and management program for the HBC, and in the interim an ad hoc committee of AMWG, TWG, GCMRC, and science advisors develop recommendations and report to AMWG at the special session.” In conjunction with that motion, the HBC Ad Hoc Group was formed and will present their report to the AMWG at the meeting. Additional ad hoc group reports may also be presented as appropriate.

Time will be allowed for any individual or organization wishing to make formal oral comments (limited to 5 minutes) at the meeting.

Date and Location: The TWG will conduct the following public meeting:

Phoenix, Arizona—May 28, 2003. The meeting will begin at 1 p.m. and conclude at 5 p.m. It will resume again on Friday, May 30, 2003 at 8 a.m. and conclude at noon. The meeting will be held at the Bureau of Indian Affairs—Western Regional Office, 2 Arizona Center, 400 N. 5th Street, Conference Rooms A and B (12th Floor), Phoenix, Arizona.

Agenda: The purpose of the meeting will be to discuss the Humpback Chub Ad Hoc Group Report, FY04 and FY05 Work Plans, GCMRC Survey Protocol Evaluation Panel Report, Oracle database, Tribal Consultation Plan, basin hydrology, environmental compliance, and other administrative and resource issues pertaining to the AMP.

To allow full consideration of information by the AMWG or TWG members, written notice must be provided to Dennis Kubly, Bureau of Reclamation, Upper Colorado Regional Office, 125 South State Street, Room 6107, Salt Lake City, Utah, 84138; telephone (801) 524-3715; faxogram (801) 524-3858; e-mail at dkubly@uc.usbr.gov (5) days prior to the meeting. Any written comments received will be provided to the AMWG and TWG members prior to the meeting.

FOR FURTHER INFORMATION CONTACT: Dennis Kubly, telephone (801) 524-3758; faxogram (801) 524-3858; or via e-mail at dkubly@uc.usbr.gov.

Dated: April 28, 2003.
Dennis Kubly,
Chief, Adaptive Management Group, Environmental Resources Division, Upper Colorado Regional Office.

[FR Doc. 03-11861 Filed 5-12-03; 8:45 am]

BILLING CODE 4310-MN-P